DEPARTMENT OF ENERGY

Federal Energy Regulatory Commission

Combined Notice of Filings # 1

April 5, 2006.

Take notice that the Commission received the following electric rate filings.

Docket Numbers: ER97-4281-015; ER99-2161-006; ER99-3000-005; ER02-1572-003; ER02-1572-003; ER02-1571-003; ER99-1115-010; ER99-1116-010; ER98-4515-007; ER00-2810-004; ER99-4359-003; ER99-4358-003; ER99-2168-006; ER98-1127-010; ER99-2162-006; ER00-2807-004; ER00-2809-004; ER98-1796-009; ER00-1259-005; ER99-4355-003; ER99-4356-003; ER01-1558-003; ER00-3160-005; ER99-4357-003; ER01-2969-004; ER00-2313-005; ER03-955-005; ER02-2032-003; ER02-1396-003; ER02-1412-003; ER00-3718-004; ER99-3637-004; ER99-1712-006; ER00-1250-003; ER00-2808-004.

Applicants: NRG Power Marketing, Inc; Aurthur Kill power LLC; Astoria Gas Turbines Power LLC; Bayou Cove Peaking Power LLC; Big Cajun I Peaking Power LLC; Cabrillo Power I LLC; Cabrillo Power II LLC; Cadillac Renewable Energy LLC; Cadillac Renewable Energy LLC; Connecticut Jet Power LLC; Devon Power LLC; Dunkirk Power LLC; El Segundo Power, LLC; Huntley Power LLC; Indian River Power LLC; Keystone Power LLC; Long Beach Generation LLC; Louisiana Generating LLC; LLC; Middletown Power LLC; Montville Power LLC; NEO California Power LLC; NEO Chester-Gen LLC; Norwalk Power LLC; NRG Audrain Generating LLC; NRG Energy Center Paxton LLC; NRG Marketing Services LLC; NRG New Jersey Energy Sales LLC; NRG Rockford LLC; NRG Rockford II LLC; NRG Sterling Power LLC; Oswego Harbor Power LLC; Somerset Power LLC; Tacoma Energy Recovery Company; Vienna Power LLC.

Description: NRG Power Marketing Inc, Arthur Kill Power LLC, and Astoria Gas Turbine Power LLC et al. submits a notification of change in status.

Filed Date: March 23, 2006.

Accession Numbers: 20060328-0099 and 20060328-0100.

Comment Date: 5 p.m. Eastern Time on Thursday, April 13, 2006.

Docket Numbers: ER99-1115-009; ER99-1116-009; ER98-1127-009; ER98-1796-008; ER06-820-000.

Applicants: Cabrillo Power I LLC; Cabrillo Power II LLC; El Segundo Power, LLC; Long Beach Generation, LLC.

Description: WCP Project Companies submits an amended and restated version of each of their market-based rate tariffs.

Filed Date: March 23, 2006.

Accession Number: 20060328-0079.

Comment Date: 5 p.m. Eastern Time on Thursday, April 13, 2006.

Docket Numbers: ER03-951-007; ER03-416-008; ER04-94-005; ER03-296-007; ER05-534-005; ER05-365-005; ER01-3121-006; ER02-418-005; ER05-332-005; ER06-1-003; ER02-417-005; ER05-1146-005; ER06-200-004; ER05-481-005; ER06-821-000.

Applicants: Moraine Wind LLC; Klondike Wind Power LLC; Mountain View Power Partners III, LLC; Flying Cloud Power Partners, LLC; Eastern Desert Power LLC; Elk River Windfarm LLC; Klamath Energy LLC; Klamath Generation LLC; Klondike Wind Power II LLC; Leaning Juniper Wind Power LLC; Phoenix Wind Power LLC; Shiloh I Wind Project, LLC; Big Horn Wind Project LLC; Trimont Wind I LLC.

Description: PPM Companies submits proposed amendments to their market-based rate schedules to remove the prohibition against transactions with Pacificorp etc. under ER03-951 et al.

Filed Date: March 23, 2006.

Accession Number: 20060328-0088.

Comment Date: 5 p.m. Eastern Time on Thursday, April 13, 2006.

Docket Numbers: ER06-368-001.

Applicants: MidAmerican Energy Company.

Description: MidAmerican Energy Co submits its response to the deficiency items noted in FERC's February 23, 2006 deficiency letter.

Filed Date: March 27, 2006.

Accession Number: 20060330-0061.

Comment Date: 5 p.m. Eastern Time on Monday, April 17, 2006.

Docket Numbers: ER06-698-001.

Applicants: First Commodities Ltd.

Description: First Commodities Ltd submits its revised Rate Schedule and Petition for acceptance of Initial Rate Schedule, Waivers and Blanket Authority incorporating the requirements for change in status.

Filed Date: March 24, 2006.

Accession Number: 20060331-0179.

Comment Date: 5 p.m. Eastern Time on Friday, April 14, 2006.

Docket Numbers: ER06-762-000.

Applicants: Maine Public Service Company.

Description: Maine Public Service Co submits an informational filing setting forth the changed loss factor effective March 1, 2006 pursuant to the Commission's April 12, 2001 order.

Filed Date: March 15, 2006.

Accession Number: 20060324-0021.

Comment Date: 5 p.m. Eastern Time on Monday, April 10, 2006.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-5301 Filed 4-10-06; 8:45 am]

BILLING CODE 6717-01-P